DEPARTMENT OF TRANSPORTATION

Pipeline and Hazardous Materials Safety Administration

[Docket No. PHMSA-2024-0001 (Notice No. 2024-05)]

Hazardous Materials: Information Collection Activities

AGENCY: Pipeline and Hazardous Materials Safety Administration (PHMSA), DOT.

ACTION: Notice and request for comments.

SUMMARY: In accordance with the Paperwork Reduction Act of 1995, this notice announces that the Information Collection Requests (ICRs) discussed below will be forwarded to the Office of Management and Budget (OMB) for renewal and extension. These ICRs describe the nature of the information collections and their expected burdens. A Federal Register notice and request for comments with a 60-day comment period on these ICRs was published in the Federal Register on January18, 2024 [89 FR 3494] under Docket No. 2024-0001 (Notice No. 2024-01). PHMSA received a comment from the National Propane Gas Association in support of the burden estimates for the three OMB control numbers outlined in the 60-day notice.

DATES: Interested persons are invited to submit comments on or before May 10, 2024.

ADDRESSES: Written comments and recommendations for the proposed information collection should be sent within 30 days of publication of this notice to www.reginfo.gov/public/do/PRAMain. Find this particular information collection by selecting “Currently under 30-day Review—Open for Public Comments” or by using the search function.

We invite comments on: (1) whether the proposed collection of information is necessary for the proper performance of the functions of the Department, including whether the information will have practical utility; (2) the accuracy of the Department's estimate of the burden of the proposed information collection; (3) ways to enhance the quality, utility, and clarity of the information to be collected; and (4) ways to minimize the burden of the collection of information on respondents, including the use of automated collection techniques or other forms of information technology.

Docket: For access to the dockets to read background documents or comments received, go to https://www.regulations.gov.

FOR FURTHER INFORMATION CONTACT: Steven Andrews or Nina Vore, Standards and Rulemaking Division, (202) 366-8553, ohmspra@dot.gov, Pipeline and Hazardous Materials Safety Administration, U.S. Department of Transportation, 1200 New Jersey Avenue SE, Washington, DC 20590-0001.

SUPPLEMENTARY INFORMATION: Section 1320.8 (d), title 5, Code of Federal Regulations (CFR) requires PHMSA to provide interested members of the public and affected agencies an opportunity to comment on information collection and recordkeeping requests. This notice identifies information collection requests that PHMSA will be submitting to the Office of Management and Budget (OMB) for renewal and extension. These information collections are contained in 49 CFR 171.6 of the Hazardous Materials Regulations (HMR; 49 CFR parts 171-180). PHMSA has revised burden estimates, where appropriate, to reflect current reporting levels or adjustments based on changes in proposed or final rules published since the information collections were last approved. The following information is provided for each information collection: (1) title of the information collection, including former title if a change is being made; (2) OMB control number; (3) summary of the information collection activity; (4) description of affected public; (5) estimate of total annual reporting and recordkeeping burden; and (6) frequency of collection. PHMSA will request a 3-year term of approval for each information collection activity and will publish a notice in the Federal Register upon OMB's approval.

PHMSA requests comments on the following information collections:

Title: Cargo Tank Specification Requirements.

OMB Control Number: 2137-0014.

Summary: This information collection consolidates and describes the information collection provisions in 49 CFR parts 107, 178, and 180 involving the manufacture, qualification, maintenance, and use of all specification cargo tank motor vehicles. It also includes the information collection and recordkeeping requirements for persons who are engaged in the manufacture, assembly, requalification, and maintenance of Department of Transportation (DOT) specification cargo tank motor vehicles. The types of information collected include:

(1) Registration Statements: Cargo tank manufacturers and repairers, as well as cargo tank motor vehicle assemblers, are required to be registered with DOT and must furnish information relative to their qualifications to perform the functions in accordance with the HMR. DOT uses the registration statements to identify these persons to ensure they possess the knowledge and skills necessary to perform the required functions and that they are performing the specified functions in accordance with the applicable regulations.

(2) Requalification and Maintenance Reports: These reports are prepared by persons who requalify or maintain cargo tanks. This information is used by cargo tank owners, operators and users, and DOT compliance personnel to verify that the cargo tanks are requalified, maintained, and in proper condition for the transportation of hazardous materials.

(3) Manufacturers' Data Reports, Certificates, and Related Papers: These reports are prepared by cargo tank manufacturers and certifiers. They are used by cargo tank owners, operators, users, and DOT compliance personnel to verify that a cargo tank motor vehicle was designed and constructed to meet all requirements of the applicable specification. The following information collections and their burdens are associated with this OMB Control Number.

Please note that these estimates may be rounded for readability:

Information collection | Annual respondents | Total annual responses | Time per response | Total annual burden hours
Registration—Cargo Tank Manufacturers | 24 | 24 | 20 minutes | 8
Registration—Repair Facilities | 33 | 33 | 20 minutes | 11
Registration—Design Certifying Engineers & Registered Inspectors | 1,110 | 1,110 | 20 minutes | 370
Registration—Recordkeeping | 117 | 117 | 15 minutes | 29
Updating a Cargo Tank Registration | 145 | 145 | 15 minutes | 36
Design Certificates for Prototypes | 55 | 55 | 2.5 hours | 138
Design Certificates for Prototypes—Recordkeeping | 7 | 7 | 15 minutes | 2
Manufacture's Data Reports or Certificate and Related Papers | 145 | 6,960 | 30 minutes | 3,480
Manufacture's Data Reports or Certificate and Related Papers—Recordkeeping | 700 | 700 | 15 minutes | 175
Completion of Manufacturer's Data Report—New Cargo Tanks | 145 | 4,785 | 30 minutes | 2,393
Completion of Manufacturer's Data Report—Remanufactured Cargo Tanks | 145 | 1,015 | 30 minutes | 508
Completion of Manufacturer's Data Report—Recordkeeping | 145 | 580 | 15 minutes | 145
Cargo Tank Repair/Modification Reports | 195 | 15,015 | 5 minutes | 1,251
Testing and Inspection of Cargo Tanks—Visual Inspections | 1,654 | 24,600 | 30 minutes | 12,300
Testing and Inspection of Cargo Tanks—External Visual Inspections | 1,654 | 123,000 | 30 minutes | 61,500

Affected Public: Manufacturers, assemblers, repairers, requalifiers, certifiers, and owners of cargo tanks.

Annual Reporting and Recordkeeping Burden:

Number of Respondents: 6,274.

Total Annual Responses: 178,146.

Total Annual Burden Hours: 82,346.

Frequency of Collection: On occasion.

Title: Testing, Inspection, and Marking Requirements for Cylinders.

OMB Control Number: 2137-0022.

Summary: Requirements in § 173.301 for the qualification, maintenance, and use of cylinders include periodic inspections and retesting to ensure continuing compliance with packaging standards. Information collection requirements address registration of retesters and marking of cylinders by retesters with their identification number and retest date following the completion of required tests. The cylinder owner or designated agent must keep records showing the results of inspections and retests until either expiration of the retest period or until the cylinder is re-inspected or retested, whichever occurs first. These requirements ensure that retesters have the qualifications to perform tests and identify to cylinder fillers and users that cylinders are qualified for continuing use. Information collection requirements in § 173.303 require that fillers of acetylene cylinders keep, for at least 30 days, a daily record of the representative pressure to which cylinders are filled. The following information collections and their burdens are associated with this OMB Control Number.

Note, that these estimates may be rounded for readability:

Information collection | Annual respondents | Total annual responses | Time per response | Total annual burden hours
Cylinder Manufacture Marking | 225 | 101,250 | 7.17 minutes | 12,099
Cylinder Manufacture Inspector's Report—Reporting | 225 | 225 | 30 minutes | 113
Cylinder Manufacture Inspector's Report—Recordkeeping | 30 | 30 | 12 minutes | 6
Record of Alloy Added to Cylinder—Reporting | 23 | 23 | 1 hour | 23
Cylinder Requalification Marking—Reporting | 15,000 | 14,550,000 | 46 seconds | 185,917
Cylinder Requalification Record—Reporting | 15,000 | 14,550,000 | 45 seconds | 181,875
Cylinder Requalification Record—Recordkeeping | 330 | 330 | 6 minutes | 33
Recent Recalibration Record | 2,300 | 4,600 | 5 minutes | 383
Repair, Rebuilding, or Reheat Treatment Records | 47 | 2,350 | 12 minutes | 470
Repair, Rebuilding, or Reheat Treatment Records—Recordkeeping | 6 | 6 | 10 minutes | 1
Changing Marked Service Pressure | 8 | 8 | 15 minutes | 2

Affected Public: Fillers, owners, users, and retesters of reusable cylinders.

Annual Reporting and Recordkeeping Burden:

Number of Respondents: 33,194.

Total Annual Responses: 29,208,822.

Total Annual Burden Hours: 380,922.

Frequency of Collection: On occasion.

Title: Container Certification Statements.

OMB Control Number: 2137-0582.

Summary: Shippers of explosives, in freight containers or transport vehicles by vessel, are required to certify on shipping documentation that the freight container or transport vehicle meets minimal structural serviceability requirements. This requirement ensures an adequate level of safety for the transport of explosives aboard vessel and consistency with similar requirements in international standards. The following information collections and their burdens are associated with this OMB Control Number.

Please note that these estimates may be rounded for readability:

Information collection | Annual respondents | Total annual responses | Time per response | Total annual burden hours
Freight Container Packing Certification | 620 | 890,000 | 1 minute | 14,833
Class 1 (explosives) Container Structural Serviceability Statement | 30 | 4,500 | 1 minute | 75

Affected Public: Shippers of explosives in freight containers or transport vehicles by vessel.

Annual Reporting and Recordkeeping Burden:

Number of Respondents: 650.

Total Annual Responses: 894,500.

Total Annual Burden Hours: 14,908.

Frequency of Collection: On occasion.

Issued in Washington, DC, on April 5, 2024, under authority delegated in 49 CFR 1.97.
Steven W. Andrews, Jr.,
Acting Chief, Regulatory Review and Reinvention Branch, Office of Hazardous Materials Safety, Pipeline and Hazardous Materials Safety Administration.

[FR Doc. 2024-07617 Filed 4-9-24; 8:45 am]

BILLING CODE 4910-60-P